DEPARTMENT OF DEFENSE

GENERAL SERVICES ADMINISTRATION

NATIONAL AERONAUTICS AND SPACE ADMINISTRATION

[OMB Control No. 9000-0130; Docket 2012-0076; Sequence 14]

Federal Acquisition Regulation; Information Collection; Buy American Act—Free Trade Agreements—Israeli Trade Act Certificate

AGENCIES: Department of Defense (DOD), General Services Administration (GSA), and National Aeronautics and Space Administration (NASA).

ACTION: Notice of request for an extension to an existing OMB clearance.

SUMMARY: Under the provisions of the Paperwork Reduction Act, the Regulatory Secretariat will be submitting to the Office of Management and Budget (OMB) a request to review and approve an extension of a previously approved information collection requirement concerning the Buy American Act—Free Trade Agreements—Israeli Trade Act Certificate.

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before September 21, 2012.

ADDRESSES: Submit comments identified by Information Collection 9000-0130, Buy American Act—Free Trade Agreements—Israeli Trade Act Certificate, by any of the following methods:

• Regulations.gov: http://www.regulations.gov. Submit comments via the Federal eRulemaking portal by inputting “Information Collection 9000-0130, Buy American Act-Free Trade Agreements-Israeli Trade Act Certificate” under the heading “Enter Keyword or ID” and selecting “Search”. Select the link “Submit a Comment” that corresponds with “Information Collection 9000-0130, Buy American Act-Free Trade Agreements-Israeli Trade Act Certificate”. Follow the instructions provided at the “Submit a Comment” screen. Please include your name, company name (if any), and “Information Collection 9000-0130, Buy American Act-Free Trade Agreements-Israeli Trade Act Certificate” on your attached document.

• Fax: 202-501-4067.

• Mail: General Services Administration, Regulatory Secretariat (MVCB), 1275 First Street, NE., Washington, DC 20417. Attn: Hada Flowers/IC 9000-0130, Buy American Act—Free Trade Agreements—Israeli Trade Act Certificate.

Instructions: Please submit comments only and cite Information Collection 9000-0130, Buy American Act—Free Trade Agreements—Israeli Trade Act Certificate, in all correspondence related to this collection. All comments received will be posted without change to http://www.regulations.gov, including any personal and/or business confidential information provided.

FOR FURTHER INFORMATION CONTACT: Ms. Cecelia Davis, Procurement Analyst, Contract Policy Division, GSA, (202) 219-0202 or via email at cecelia.davis@gsa.gov.

SUPPLEMENTARY INFORMATION:

A. Purpose

Under the Free Trade Agreements Act of 1979, unless specifically exempted by statute or regulation, agencies are required to evaluate offers over a certain dollar limitation to supply an eligible product without regard to the restrictions of the Buy American Act. FAR provision 52.225—4, Buy American Act—Free Trade Agreements—Israeli Trade Act Certificate, requires an offeror to certify that the offered products are domestic end products and Free Trade Agreement (FTA) end products. The provision also requires an offeror to identify foreign end products.

Contracting officers use the information to give domestic and FTA country end products a preference during the evaluation of offers. Items having components of unknown origin are considered to have been mined, produced, or manufactured outside the United States.

B. Annual Reporting Burden

Respondents: 1,083.

Responses per Respondent: 5.

Annual Responses: 5,415.

Hours per Response: .117.

Total Burden Hours: 634.

Obtaining Copies of Proposals: Requesters may obtain a copy of the information collection documents from the General Services Administration, Regulatory Secretariat (MVCB), 1275 First Street NE., Washington, DC 20417, telephone (202) 501-4755. Please cite OMB Control No. 9000-0130, Buy American Act—Free Trade Agreements—Israeli Trade Act Certificate, in all correspondence.

Dated: July 10, 2012.
Laura Auletta,
Director, Office of Governmentwide Acquisition Policy, Office of Acquisition Policy, Office of Governmentwide Policy.

[FR Doc. 2012-17862 Filed 7-20-12; 8:45 am]

BILLING CODE 6820-EP-P